DEPARTMENT OF HEALTH AND HUMAN SERVICES

Centers for Disease Control and Prevention

[30Day-25-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Online Evaluation Of A GIS Map Server Project With The Migrant Clinicians Network—New—Agency for Toxic Substances and Disease Registry (ATSDR).

In 2001, ATSDR began working with the Migrant Clinicians Network (MCN) on a national project to use an internet-based mapping service to help decrease disparities by improving health care services for migrant workers through a resource, information, consultation and reporting Geographic Information Systems (GIS) mapping application for the health care providers within the MCN. The GIS Web site will be available at http://gis.cdc.gov/mcnarcims.

As part of the implementation of the Web site, MCN and ATSDR are proposing to include an online evaluation survey to ensure that the mapping service is meeting the needs of the health care clinicians providing services to migrant populations. The survey will provide both MCN and ATSDR valuable immediate opportunities to configure the Web site to the practical needs of the physicians and other health care providers using the GIS Web site for clinical care to prevent, intervene, and treat environmental exposures for migrant farm workers and their families.

The evaluation survey will be included on the main access page of the Web site, http://gis.cdc.gov/mcnarcims. The feedback survey will be completely voluntary and will assess the following: (1) Ease of navigating the Web site; (2) ease of locating information within the site; (3) content of the Web site; (4) technology issues (e.g., loading, links, printing); and, (5) utility of the Web site to health care practice and environmental health prevention, practice and intervention. An additional question will ascertain the respondent's job category to determine the type of person accessing the Web site which will help ATSDR and MCN update and modify the content of the Web site to better fit the actual site user.

It is anticipated that the feedback survey will provide critical information to enable ATSDR to provide ongoing continuing improvement of the site to meet the needs of the MCN clinician. This will also provide ATSDR and MCN with benchmarks to meet agency performance standards. The feedback survey will be at no financial cost to the participant and will be located on the ATSDR GIS map server Web site. The estimated annualized burden is 41 hours.

Respondents | Number of respondents | Responses per respondent | Average burden per response (in hours)
MCN Health Care Members | 400 | 1 | 5/60
General Public | 100 | 1 | 5/60

Dated: April 16, 2004.
Bill J. Atkinson,
Acting Director, Management Analysis and Services Office, Centers for Disease Control and Prevention.

[FR Doc. 04-9230 Filed 4-22-04; 8:45 am]

BILLING CODE 4163-18-P